FEDERAL MARITIME COMMISSION

Ocean Transportation Intermediary License; Revocation

The Federal Maritime Commission hereby gives notice that the following Ocean Transportation Intermediary licenses have been revoked pursuant to section 19 of the Shipping Act of 1984 (46 U.S.C. chapter 409) and the regulations of the Commission pertaining to the licensing of Ocean Transportation Intermediaries, 46 CFR part 515, effective on the corresponding date shown below:

License Number: 1580F.

Name: Marco Forwarding Co.

Address: 14204 SW. 62nd Street, Miami, FL 33183.

Date Revoked: February 27, 2011.

Reason: Failed to maintain a valid bond.

License Number: 8215N.

Name: Willex Movers Inc.

Address: 724 Whitney Avenue, San Leandro, CA 94577.

Date Revoked: February 4, 2011.

Reason: Failed to maintain a valid bond.

License Number: 13290N.

Name: Argosy Transport, Inc.

Address: 5572 Lutford Circle, Westminster, CA 92683.

Date Revoked: February 25, 2011.

Reason: Surrendered license voluntarily.

License Number: 14638N.

Name: Delahaye Blue Ribbon, Inc.

Address: 51 East 42nd Street, Suite 408, New York, NY 10017.

Date Revoked: February 1, 2011.

Reason: Failed to maintain a valid bond.

License Number: 015590N.

Name: Express Global Freight, Inc.

Address: 20311 Valley Blvd., Walnut, CA 91789.

Date Revoked: February 19, 2011.

Reason: Failed to maintain a valid bond.

License Number: 015847N.

Name: Straightline Logistics, Inc.

Address: One Cross Island Plaza, Suite 210, Rosedale, NY 11422.

Date Revoked: February 13, 2011.

Reason: Failed to maintain a valid bond.

License Number: 017279F.

Name: Unicom Trans, Inc.

Address: 15500 S. Western Avenue, Gardena, CA 90249.

Date Revoked: February 23, 2011.

Reason: Failed to maintain a valid bond.

License Number: 017330N.

Name: Geomarine Shipping Inc.

Address: 27 Cambridge Road, East Rockaway, NY 11518.

Date Revoked: February 20, 2011.

Reason: Failed to maintain a valid bond.

License Number: 018125F.

Name: Echo-Translink Systems (ETS) dba Echo Worldwide.

Address: 14205 SE 36th Street, Suite 100, Bellevue, WA 98006.

Date Revoked: February 28, 2011.

Reason: Failed to maintain a valid bond.

License Number: 018977N.

Name: Alas Cargo LLC.

Address: 228-236 Star of India Lane, Main Street, Carson, CA 90746.

Date Revoked: February 7, 2011.

Reason: Failed to maintain a valid bond.

License Number: 019156N.

Name: La Primavera Cargo Express Corp.

Address: 1388-92 Jesup Avenue, Bronx, NY 10452.

Date Revoked: February 26, 2011.

Reason: Failed to maintain a valid bond.

License Number: 019277N.

Name: Trans Freight (USA) Inc.

Address: 317 W. Main Street, Unit 419, Alhambra, CA 91801.

Date Revoked: February 21, 2011.

Reason: Failed to maintain a valid bond.

License Number: 019288F.

Name: Kairos Logistics LLC.

Address: 1447 West 178th Street, Suite 305, Gardena, CA 90248.

Date Revoked: February 15, 2011.

Reason: Failed to maintain a valid bond.

License Number: 019897N.

Name: Pinoy Express Cargo, Inc.

Address: 18800 Amar Road, Suite A-7, Walnut, CA 91789.

Date Revoked: February 10, 2011.

Reason: Failed to maintain a valid bond.

License Number: 019908NF.

Name: International Trade Management Group, LLC dba ITM Logistics dba Patriot Lines.

Address: 611 Live Oak Drive, McLean, VA 22101.

Date Revoked: February 21, 2011.

Reason: Failed to maintain valid bonds.

License Number: 020527NF.

Name: Fast Logistics, Inc.

Address: 3350 SW 3rd Avenue, Suite 207, Fort Lauderdale, FL 33315.

Date Revoked: February 28, 2011.

Reason: Failed to maintain valid bonds.

License Number: 021273NF.

Name: Frontcargo Freight Services Inc.

Address: 4729 NW 72nd Avenue, Miami, FL 33166.

Date Revoked: February 12, 2011.

Reason: Failed to maintain valid bonds.

License Number: 021837F.

Name: Cargo America, Inc.

Address: 332 South Wayside Drive, Houston, TX 77011.

Date Revoked: November 10, 2010.

Reason: Failed to maintain a valid bond.

License Number: 021901F.

Name: Magusa Logistics, Corp.

Address: 11222 NW. 53rd Lane, Doral, FL 33178.

Date Revoked: February 28, 2011.

Reason: Failed to maintain a valid bond.

License Number: 021961N.

Name: Miami Envios Express Inc.

Address: 7468 SW 117th Avenue, Miami, FL 33183.

Date Revoked: February 16, 2011.

Reason: Surrendered license voluntarily.

License Number: 022184F.

Name: Santiago Cargo Express, Corp.

Address: 9-16 37th Avenue, Long Island City, NY 11101.

Date Revoked: February 25, 2011.

Reason: Failed to maintain a valid bond.

Sandra L. Kusumoto,
Director, Bureau of Certification and Licensing.

[FR Doc. 2011-6865 Filed 3-22-11; 8:45 am]

BILLING CODE 6730-01-P